DEPARTMENT OF THE INTERIOR

National Park Service

[NPS-WASO-NAGPRA-NPS0036060; PPWOCRADN0-PCU00RP14.R50000]

Notice of Inventory Completion: Los Angeles County Museum of Natural History, Los Angeles, CA

AGENCY: National Park Service, Interior.

ACTION: Notice.

SUMMARY: In accordance with the Native American Graves Protection and Repatriation Act (NAGPRA), the Los Angeles County Museum of Natural History (LACMNH), has completed an inventory of human remains and has determined that there is a cultural affiliation between the human remains and Indian Tribes or Native Hawaiian organizations in this notice. The human remains were removed from Bernalillo County, NM.

DATES: Repatriation of the human remains and associated funerary objects in this notice may occur on or after July 24, 2023.

ADDRESSES: Amy E. Gusick, NAGPRA Officer, Los Angeles County Museum of Natural History, 900 Exposition Boulevard, Los Angeles, CA 90007, telephone (213) 763-3370, email agusick@nhm.org.

SUPPLEMENTARY INFORMATION: This notice is published as part of the National Park Service's administrative responsibilities under NAGPRA. The determinations in this notice are the sole responsibility of the Los Angeles County Museum of Natural History. The National Park Service is not responsible for the determinations in this notice. Additional information on the determinations in this notice, including the results of consultation, can be found in the inventory or related records held by the Los Angeles County Museum of Natural History.

Description

Human remains representing, at minimum, seven individuals were removed from the Paa-ko Pueblo site in Bernalillo County, NM. On March 13, 1942, these human remains were recorded in the Accession Records of the Laboratory of Anthropology of the Hancock Foundation (a now-disbanded museum that was once part of the University of Southern California). The accession record (number 64) reads, “Skeletal material from Pa-ako, ruin in New Mexico: season—Most are frag.” The human remains, which had been gifted to the University of Southern California by the Museum of New Mexico, were recorded with the U.S.C. code designations Bq and 60. Bq represents “Paako” and 60 represents “skeletal—burials.” On February 1, 1966, the Laboratory of Anthropology of the Hancock Foundation loaned items from its anthropology collection to LACMNH, and on March 29, 1983, they were gifted to LACMNH. LACMNH Catalog Number L.2397.66-27 represents two adult females between 20 and 40 years old and LACMNH Catalog Number L.2397.66-28 represents one adult of unknown sex, one fetus, one newborn, one child one year old, and one child three years old; the three-year old had spina bifida. No associated funerary objects are present.

The Paa-ko site is believed to have been occupied from approximately A.D. 1300 to 1425 and then again from approximately A.D. 1525 to 1626 or later. The Paa-ko site is documented through material culture and ethnographic accounts to as having originally been inhabited by the Tamayame people, and represents an important location in the migration history of the modern Tamayame, or people of the Pueblo of Santa Ana. Oral history and ethnographic accounts trace this migration history through Paa-ko to the modern Pueblo of Santa Ana. These histories, as well as archeological evidence suggests a continued shared group identity between the Tamayame people and the modern Native American inhabitants of the Pueblo of Santa Ana, New Mexico.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship anthropological, archeological, and oral traditional.

Determinations

Pursuant to NAGPRA and its implementing regulations, and after consultation with the appropriate Indian Tribes and Native Hawaiian organizations, the Los Angeles County Museum of Natural History has determined that:

• The human remains described in this notice represent the physical remains of seven individuals of Native American ancestry.

• There is a relationship of shared group identity that can be reasonably traced between the human remains described in this notice and the Pueblo of Santa Ana, New Mexico.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after July 24, 2023. If competing requests for repatriation are received, the Los Angeles County Museum of Natural History must determine the most appropriate requestor prior to repatriation. Requests for joint repatriation of the human remains are considered a single request and not competing requests. The Los Angeles County Museum of Natural History is responsible for sending a copy of this notice to the Indian Tribe identified in this notice.

Authority: Native American Graves Protection and Repatriation Act, 25 U.S.C. 3003, and the implementing regulations, 43 CFR 10.9, 10.10, and 10.14.

Dated: June 14, 2023.
Melanie O'Brien,
Manager, National NAGPRA Program.

[FR Doc. 2023-13298 Filed 6-21-23; 8:45 am]

BILLING CODE 4312-52-P